DEPARTMENT OF THE INTERIOR

Bureau of Reclamation

Agency Information Collection Activities Under OMB Review; Renewal of a Currently Approved Collection

AGENCY: Bureau of Reclamation, Interior.

ACTION: Notice and request for comments.

SUMMARY: The Bureau of Reclamation has forwarded the following Information Collection Request to the Office of Management and Budget (OMB) for review and approval: Recreation Use Data Reports, OMB Control Number: 1006-0002. As part of its continuing effort to reduce paperwork and respondent burdens, Reclamation invites other Federal agencies, State, local, or tribal governments that manage recreation sites at Reclamation projects; concessionaires, and not-for-profit organizations who operate concessions on Reclamation lands; and the public, to comment on this information collection.

DATES: OMB has up to 60 days to approve or disapprove this information collection, but may respond after 30 days; therefore, public comments must be received on or before October 29, 2012.

ADDRESSES: Please send your comments to the Desk Officer for the Department of the Interior at the Office of Management and Budget, Office of Information and Regulatory Affairs, via facsimile to (202) 395-5806, or email to OIRA_DOCKET@omb.eop.gov. A copy of your comments should also be directed to the Bureau of Reclamation, Attention: Jerome Jackson (84-53000), P.O. Box 25007, Denver, CO 80225-0007, or directed via email to jljackson@usbr.gov. Please reference OMB Control Number 1006-0002 in your comments.

FOR FURTHER INFORMATION CONTACT: For further information or a copy of the proposed forms, contact Jerome Jackson at the above address, or at (303) 445-2712. You may also view the Information Collection Request at www.reginfo.gov.

SUPPLEMENTARY INFORMATION:

I. Abstract

Reclamation collects agency-wide recreation and concession information to fulfill congressional reporting requirements pursuant to current public laws, including the Land and Water Conservation Fund Act (Pub. L. 88-578), the Federal Water Project Recreation Act (Pub. L. 89-72), and the Federal Lands Recreation Enhancement Act (Pub. L. 108-477). In addition, collected information will permit relevant program assessments of resources managed by Reclamation, its recreation managing partners, and/or concessionaires for the purpose of contributing to the implementation of Reclamation's mission. More specifically, the collected information enables Reclamation to (1) evaluate the effectiveness of program management based on existing recreation and concessionaire resources and facilities, and (2) validate the efficiency of resources for public use within partner managed recreation resources, located on Reclamation project lands in the 17 Western States.

II. Data

OMB Control Number: 1006-0002.

Title: Recreation Use Data Reports.

Frequency: Annually.

Respondents: State, local, or tribal governments; agencies who manage Reclamation's recreation resources and facilities; and commercial concessions, and nonprofit organizations located on Reclamation lands with associated recreation services.

Estimated Total Number of Respondents: 270.

Estimated Number of Responses per Respondent: 1.

Estimated Total Number of Annual Responses: 270.

Estimated Total Annual Burden on Respondents: 136 hours.

Form No. | Burden estimate per form (in minutes) | Annual number of respondents | Annual burden on respondents (in hours)
7-2534 (Part I, Managing Partners and Direct Managed Recreation Areas) | 30 | 155 | 78
7-2535 (Part II, Concessionaires) | 30 | 115 | 58
Total Burden Hours |  |  | 136

III. Request for Comments

We invite your comments on:

(a) Whether the proposed collection of information is necessary for the proper performance of our functions, including whether the information will have practical use;

(b) The accuracy of our burden estimate for the proposed collection of information;

(c) Ways to enhance the quality, usefulness, and clarity of the information to be collected; and

(d) Ways to minimize the burden of the information collection on respondents, including the use of automated collection techniques or other forms of information technology.

An agency may not conduct or sponsor, and a person is not required to respond to a collection of information unless it displays a currently valid OMB control number. Reclamation will display a valid OMB control number on Forms 7-2534 and 7-2535, OMB Control Number: 1006-0002.

A Federal Register notice with a 60-day comment period soliciting comments on this collection of information was published in the Federal Register (74 FR 24735, April 25, 2012). No public comments were received.

IV. Public Disclosure of Comments

Before including your address, phone number, email address, or other personal identifying information in your comment, you should be aware that your entire comment—including your personal identifying information—may be made publicly available at any time. While you can ask us in your comment to withhold your personal identifying information from public review, we cannot guarantee that we will be able to do so.

Dated: September 21, 2012.
Roseann Gonzales,
Director, Policy and Administration, Denver Office.

[FR Doc. 2012-23923 Filed 9-27-12; 8:45 am]

BILLING CODE 4310-MN-P